OFFICE OF MANAGEMENT AND BUDGET

Agency Information Collection Activities: Proposed Collection; Comment Request; the Partnership Fund for Program Integrity Innovation Pilot Idea Template

AGENCY: Office of Management and Budget.

ACTION: Notice and request for public comments.

SUMMARY: The Office of Federal Financial Management (OFFM) within the Office of Management and Budget is proposing for approval under the Paperwork Reduction Act (PRA) (44 U.S.C. 3501 et. Seq.) the attached template for pilot idea summaries submitted to the Partnership Fund for Program Integrity Innovation (Partnership Fund). This notice announces that OFFM intends to submit this collection to OMB for approval and solicits comments on specific aspects for the proposed collection. The first notice of this information collection request, as required by the Paperwork Reduction Act, was published in the Federal Register on June 6, 2011 [76 FR 32375]. There were no comments on the first notice.

The Partnership Fund seeks to identify pilot projects to improve the service delivery, payment accuracy, and administrative efficiency of state-administered Federal assistance programs, while also reducing access barriers for eligible beneficiaries.

The proposed pilot idea summary template is intended for use by those wishing to submit pilot ideas for consideration. It outlines the specific information required by the Partnership Fund to make informed decisions in the pilot selection process. Pilot ideas to advance the Partnership Fund's goals are being solicited from all stakeholders, including the general public. The template is currently in use by Federal agencies based on OMB guidance. If approved under the Paperwork Reduction Act, it will be used to solicit ideas from stakeholders outside the Federal government both as a general template and as an online form for idea solicitations through the Partnership Fund web site, http://www.partner4solutions.gov. Currently, general ideas may be submitted via e-mail to partner4solutions@omb.eop.gov, or through http://www.partner4solutions.gov. The Partnership Fund is funded through FY 2012 and will continue to accept pilot idea proposals on a rolling basis until funding is exhausted. The Partnership Fund must comply with a statutory requirement that all pilot projects, when taken together, be cost neutral.

DATES: Submit comments on or before November 4, 2011. Late comments will be considered to the extent practicable.

ADDRESSES: Due to potential delays in OMB's receipt and processing of mail sent through the U.S. Postal Service, we encourage respondents to submit comments electronically to ensure timely receipt. We cannot guarantee that comments mailed will be received before the comment closing date.

Comments may be e-mailed to: mmassey@omb.eop.gov and/or FN-OMB-OIRA-Submission@omb.eop.gov. Please include the full body of your comments in the text of the electronic message, as well as in an attachment. Please include your name, title, organization, postal address, telephone number, and e-mail address in the text of the message. Comments may also be submitted via facsimile to (202) 395-3242.

FOR FURTHER INFORMATION CONTACT: Please visit our web site at www.partner4solutions.gov or contact Meg Massey at (202) 395-7552 or mmassey@omb.eop.gov.

SUPPLEMENTARY INFORMATION:

Background

The Partnership Fund for Program Integrity Innovation (Partnership Fund) was established by the Consolidated Appropriations Act of 2010 (Pub. L. 111-117). An appropriation of $32.5 million ¹ provides money to pilot and evaluate promising innovations that confront these challenges in Federal, state and/or local administration. The purpose of the Partnership Fund is to identify and evaluate innovations in programs jointly administered by Federal and state agencies and in other program areas where Federal-state cooperation would be beneficial. OMB coordinates and manages the Partnership Fund for the purpose of conducting pilot projects that test these innovations. The pilots will emphasize the Partnership Fund's four goals: service delivery, program integrity, administrative efficiency, and program access.

¹ The initial FY 2010 appropriation for the Partnership Fund was for $37.5 million. This appropriation has been reduced to $32.5 million due to a $5 million rescission in Public Law 112-10.

Ideas submitted by the public are shared with the Collaborative Forum, a self-directed stakeholder group (http://www.collaborativeforumonline.com) established to fulfill the statutory requirement that the OMB Director consult with an “interagency council of stakeholders” in determining which pilots will receive Partnership Fund funding. The Collaborative Forum identifies pilot ideas that show the greatest potential for meeting the Partnership Fund's four goals and convenes work groups to further develop these ideas into feasible, measurable pilot concepts. Collaborative Forum work groups include state and other stakeholders with relevant expertise. Work groups produce pilot concept papers describing the goals, methods, resource requirements, and anticipated outcomes of proposed pilots. Ideas sent to the Collaborative Forum may be developed into pilot concept papers to send to OMB for funding consideration.

Federal agencies may also develop ideas into pilot concept papers that are shared with the Collaborative Forum for consultation. Pilot concepts are then submitted for funding approval by OMB, which takes into account the consultation provided by the Collaborative Forum and by the Partnership Fund's Federal Steering Committee, which consists of senior policy officials from Federal agencies that administer the major benefits programs.

Funds for each approved pilot concept are transferred to a lead Federal agency, which in turn selects specific states, localities, and/or other relevant entities to participate in the pilot by implementing specific pilot projects using pilot funds. The lead agency also conducts a cost-effective evaluation of the pilot projects. Based on evaluation findings, successful pilots will serve as models for other states and local agencies. Evaluation results may also be used to inform future administrative or legislative changes to the affected programs, including broader implementation of the innovations tested.

Examples of Programs and Pilots: Examples of Federally funded, state-administered assistance programs relevant to the goals of the Partnership Fund are listed below. Other programs will also be included in concept idea submissions.

• Special Supplemental Nutrition Program for Women, Infants and Children (WIC)

• Supplemental Nutrition Assistance Program (SNAP—formerly Food Stamps)

• Medicaid

• Unemployment Insurance (UI)

• Child Welfare

• Child Care

• Temporary Assistance for Needy Families (TANF)

Examples of the types of pilots that could be supported include:

• Pilots that simplify or streamline processes for application, eligibility determination, and confirmation of continued eligibility

• Pilots that promote or utilize data matching and information sharing across programs

• Pilots that test integrated applications, screening, and verification for multiple benefit programs

Components of an ideal pilot are listed below. Not every pilot concept considered for funding will meet all of these criteria, and the size and scope of the pilot projects funded may vary widely:

• Yield reliable data that can be captured in the pilot evaluation to suggest replication or expansion and demonstrate how successfully the pilot meets the Partnership Fund's four goals

• Have the potential to be replicated and sustained on a larger scale

• Address multiple elements of the Partnership Fund's four goals

• Address multiple programs and/or otherwise bridge organizational silos

• Yield measurable results in nine to 18 months

• Support the statutory requirement that Partnership Fund pilot projects be cost neutral when looked at as a whole

Current Actions: New collection of information.

Type of Review: New collection.

Affected Public: Individuals and households, businesses and organizations, State, Local, or Tribal Government.

Estimated Number of Respondents: 300.

Frequency of Response: We expect that most respondents will use the form to submit one idea, while some respondents may submit more than one idea.

Average minutes per response: 2 hours.

Burden Hours: 600.

Needs and Uses: The template is currently being used by Federal agencies, per OMB guidance, to submit pilot ideas to the Partnership Fund for Program Integrity Innovation, and as a useful reference for other organizations or individuals wishing to submit pilot ideas. If approved, the template will be made available for use by all agencies, individuals, and organizations wishing to submit pilot concept proposals for consideration.

Obligation to respond: Voluntary. However, if Federal agencies wish to pursue a pilot through the Partnership Fund, they should use this template.

Nature and extent of confidentiality: All pilot ideas submitted to the Partnership Fund may be posted on the Collaborative Forum web site, http://www.collaborativeforumonline.com, for comment and feedback. Individuals and organizations that submit ideas, regardless of whether they elect to use the template, may submit contact information if they wish to be contacted by the Collaborative Forum about their idea. Contact information, if submitted, will not be shared or used for any other purpose.

Privacy Impact Assessment: All ideas submitted to the Partnership Fund may be posted on the Collaborative Forum web site for comment and feedback. The template makes clear that the ideas submitted will be shared.

Requests for Comments: Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments will be available for public inspection on Regulations.gov.

An agency may not conduct or sponsor, and a person is not required to respond to, a collection of information unless it displays a currently valid Office of Management and Budget control number.

Debra J. Bond,
Deputy Controller.

Partnership Fund for Program Integrity Innovation Template Instructions for Pilot Idea Summary

The first step in the Partnership Fund pilot selection process is the submission of a pilot idea summary. Pilot idea summaries may be submitted by anyone through the partner4solutions.gov website, http://www.partner4solutions.gov, or the partner4solutions@omb.eop.gov email address. Pilot ideas may be sent to an independent Collaborative Forum for further development into more detailed concept papers. OMB consults with the Federal Steering Committee in selecting pilot concepts and making funding decisions.

Below are instructions for completing a pilot idea summary. Completed pilot idea summaries should not be more than two pages in length.

PARTNERSHIP FUND FOR PROGRAM INTEGRITY INNOVATION

PILOT IDEA: Name of Pilot Idea

1. Pilot Idea: Summarize the idea in 2-3 sentences.

2. Programs Affected:

• Which programs are affected, either directly or indirectly? Ideally, an idea would address multiple programs and bridge multiple programmatic silos.

• Are these federal, state, and/or local programs? An ideal submission would involve multiple states and/or communities in the development or eventual implementation of a pilot.

3. Measurable Impacts: How does the pilot impact each of the four goals of the Partnership Fund? A pilot should address as many of these goals as possible across multiple programs or test a solution that could later be applied to multiple programs.

(a) Improving payment accuracy

(b) Improving administrative efficiency

(c) Improving service delivery

(d) Reducing access barriers for eligible beneficiaries

4. Expected Outcomes and Measurement Methodologies:

• What are the expectations and measures of success in relation to the four goals?

• What are the possible quantitative and qualitative measures?

• Could these outcomes be extrapolated to a larger environment?

5. Potential Partners or Sponsors:

• Which stakeholders and/or key organizations are involved?

• Does the proposed pilot have sufficient stakeholder buy-in? Stakeholders could include federal, state, and local governments, and non-governmental organizations.

6. Estimated Operating Cost of Pilot:

• How much would the pilot cost to implement?

• Are there resources of matching or leveraged funds that could be used to support this pilot?

• Is the Partnership Fund the most appropriate funding source for the pilot? All pilot ideas will be considered, but the Partnership Fund is targeting ideas that attempt to cut across multiple programs with multiple objectives, but have struggled to gain footing in existing program silos.

7. Estimated Impact on Program Costs:

• What are the anticipated costs and/or savings for the various programs involved in the pilot?

• If the pilot were to be scaled up, what are the anticipated costs/savings? Pilot ideas that increase program costs will be considered, but the Partnership Fund must comply with our statutory requirement to maintain overall cost neutrality.

8. Pilot Implementation Issues:

• Is this pilot idea ready for immediate implementation, or does it require further refinement?

• What is the timeframe in which the pilot would be conducted? The target time period for conducting the first round of pilots is nine-18 months.

• What are possible implementation barriers (e.g., privacy issues)?

• Is this pilot scalable? Successful ideas will demonstrate strong external validity and scalability.

• Could this pilot be implemented under existing legislative authorities or mechanisms?

• Are any administrative waivers required?

PARTNERSHIP FUND FOR PROGRAM INTEGRITY INNOVATION

PILOT IDEA SUMMARY: Name of Pilot Idea

1. Pilot Idea:

2. Programs Affected:

3. Measurable Impacts:

(a) Improving payment accuracy

(b) Improving administrative efficiency

(c) Improving service delivery

(d) Reducing access barriers for beneficiaries

4. Expected Outcomes and Measurement Methodologies:

5. Potential Partners or Sponsors:

6. Estimated Operating Cost of Pilot:

7. Estimated Impact on Program Costs:

8. Pilot Implementation Issues:

[FR Doc. 2011-25651 Filed 10-4-11; 8:45 am]

BILLING CODE P